DEPARTMENT OF HOUSING AND URBAN DEVELOPMENT

[Docket No. FR-4685-N-01]

Notice of Request for Comments on Obstacles to the Participation of Faith-Based and Other Community Organizations

AGENCY: Office of the Secretary; Center for Faith-Based and Community Initiatives, HUD.

ACTION: Notice of request for comments.

SUMMARY: This notice invites interested parties to comment on regulatory, contracting and other programmatic obstacles to the participation of faith-based and other community organizations in HUD's grant funding programs.

DATES: Comment Due Date: July 5, 2001.

ADDRESSES: Interested persons are invited to submit comments regarding this Notice to the Rules Docket Clerk, Office of General Counsel, Room 10278, Department of Housing and Urban Development, 451 Seventh Street, SW., Washington, DC 20410. Communications should refer to the above docket number and title. A copy of each communication submitted will be available for public inspection and copying between 7:30 a.m. and 5:30 p.m. weekdays at the above address.

FOR FURTHER INFORMATION CONTACT: Loyd LaMois, Center for Faith-Based and Community Initiatives, Room 10286, 451 Seventh Street, SW., Washington, DC 20410-2000. Telephone number (202) 708-2404. A telecommunications device (TDD) for hearing and speech impaired persons is available at (202) 708-0455. (These are not toll-free numbers.)

SUPPLEMENTARY INFORMATION: Executive Order 13198, entitled “Agency Responsibilities With Respect to Faith-Based and Community Initiatives” and issued on January 29, 2001, requires, among other actions, certain Executive Departments, including HUD, to inventory current programs in order to identify any existing or perceived impediments “to the participation of faith-based and other community organizations in the delivery of social services by the department, including but not limited to regulations, rules, orders, procurement, and other internal policies and practices, and outreach activities that either facially discriminate against or otherwise discourage or disadvantage the participation of faith-based and other community organizations in Federal programs.” To assist in carrying out this action, HUD is requesting comments that identify specific issues with HUD programs that in any way discourage or inhibit participation of faith-based and community-based groups. Examples might include burdensome application, documentation or reporting requirements, or requirements for a mandatory organizational structure (e.g., 501(c)(3) status). HUD will consider the comments received in conducting its review to determine whether any regulations or procedures may discriminate against religious or local groups' participation in HUD programs.

Under this notice, HUD is requesting that commenters specifically focus on the following programs:

Community Development Block Grant

HOME

Housing Vouchers, including HOPE VI

HOPE VI Revitalization Grants

Sec. 202 (elderly housing)

Sec. 811 (housing for people with disabilities)

Continuum of Care, 3 programs

Supportive Housing

Shelter Plus Care

Sec. 8 Mod. Rehab (SRO)

Housing for Persons Living with AIDS (HOPWA)

Family Self-Sufficiency

Single-family programs entailing HUD approval of nonprofits

Housing counseling

HUD homes (REO disposition)

203 mortgage insurance program

YouthBuild

For each of these funding programs, HUD especially wants comments to address the following questions:

1. Are there restrictive conditions that constrict the participation of faith-based and community-based organizations?

2. How are restrictions manifested or applied (specifically identify the provision which you believe creates the restrictive condition and explain how it prevents participation by Faith-Based and community-based organizations. Also if possible give a specific example):

a. In Departmental regulations;

b. In the eligibility criteria in Notices of Funding Availability (NOFAs);

c. In Requests for Proposals (RFPs);

d. In grant monitoring;

e. In guidance the Department gives its State and local government partners;

f. In contract or grant manuals; and

g. In guidance to grant managers?

3. Are any information collection, submission or monitoring requirements duplicative or unduly burdensome?

In addition, HUD requests that commenters identify any positive program practices or procedures that presently facilitate, or that would increase, the participation of faith-based and other community organizations.

Comments not covered by the above specific interest areas are welcome.

HUD seeks specific information, e.g., the name of the program, the form, etc., where the impediment or the positive practice is found. It will also be helpful if respondents indicate whether they have ever applied (successfully or unsuccessfully) for the program, or otherwise been involved with the program(s).

For comments on the CDBG or HOME programs and the Continuum of Care process, it will help if the comment identifies the jurisdiction that administered the program, i.e., the relevant State, county or municipal government.

HUD also requests that the comments provide the name, size, and location of the nonprofit, faith-based, or other organization submitting the comments, and identify a contact person to permit HUD to follow-up on the concerns and issues raised.

Dated: May 29, 2001.
Robin McDonald,
Director, Center for Faith-Based and Community Initiatives.

[FR Doc. 01-14021 Filed 6-4-01; 8:45 am]

BILLING CODE 4210-32-P